DEPARTMENT OF HEALTH AND HUMAN SERVICES

Centers for Disease Control and Prevention

[60Day-17-17ADT; Docket No. CDC-2017-0046]

Proposed Data Collection Submitted for Public Comment and Recommendations

AGENCY: Centers for Disease Control and Prevention (CDC), Department of Health and Human Services (HHS).

ACTION: Notice with comment period.

SUMMARY: The Centers for Disease Control and Prevention (CDC), as part of its continuing efforts to reduce public burden and maximize the utility of government information, invites the general public and other Federal agencies to take this opportunity to comment on proposed and/or continuing information collections, as required by the Paperwork Reduction Act of 1995. This notice invites comment on the proposed information collection project titled “Who's at Risk: From Hazards to Communities—An Approach for Operationalizing CDC Guidelines to Determine Risks, and Define, Locate and Reach At-Risk Populations in Public Health Emergencies.” The data collection will include invitations to subject matter experts for public health and medical emergency planning. The data collection efforts will include a focus group format and also investigate at-risk population needs through an anonymous survey.

DATES: Written comments must be received on or before July 17, 2017.

ADDRESSES: You may submit comments, identified by Docket No. CDC-2017-0046 by any of the following methods:

• Federal eRulemaking Portal: Regulations.gov. Follow the instructions for submitting comments.

• Mail: Leroy A. Richardson, Information Collection Review Office, Centers for Disease Control and Prevention, 1600 Clifton Road NE., MS-D74, Atlanta, Georgia 30329.

Instructions: All submissions received must include the agency name and Docket Number. All relevant comments received will be posted without change to Regulations.gov, including any personal information provided. For access to the docket to read background documents or comments received, go to Regulations.gov.

Please note: All public comment should be submitted through the Federal eRulemaking portal (Regulations.gov) or by U.S. mail to the address listed above.

FOR FURTHER INFORMATION CONTACT: To request more information on the proposed project or to obtain a copy of the information collection plan and instruments, contact Leroy A. Richardson, Information Collection Review Office, Centers for Disease Control and Prevention, 1600 Clifton Road NE., MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to OMB for approval. To comply with this requirement, we are publishing this notice of a proposed data collection as described below.

Comments are invited on: (a) Whether the proposed collection of information is necessary for the proper performance of the functions of the agency, including whether the information shall have practical utility; (b) the accuracy of the agency's estimate of the burden of the proposed collection of information; (c) ways to enhance the quality, utility, and clarity of the information to be collected; (d) ways to minimize the burden of the collection of information on respondents, including through the use of automated collection techniques or other forms of information technology; and (e) estimates of capital or start-up costs and costs of operation, maintenance, and purchase of services to provide information. Burden means the total time, effort, or financial resources expended by persons to generate, maintain, retain, disclose or provide information to or for a Federal agency. This includes the time needed to review instructions; to develop, acquire, install and utilize technology and systems for the purpose of collecting, validating and verifying information, processing and maintaining information, and disclosing and providing information; to train personnel and to be able to respond to a collection of information, to search data sources, to complete and review the collection of information; and to transmit or otherwise disclose the information.

Proposed Project

Who's at Risk: From Hazards to Communities—An Approach for Operationalizing CDC Guidelines to Determine Risks, and Define, Locate and Reach At-Risk Populations in Public Health Emergencies—New—Office of Public Health Preparedness and Response (OPHPR), Centers for Disease Control and Prevention (CDC).

Background and Brief Description

The Risk Assessment, Mapping, and Planning (RAMP) tool is currently being developed by CDC for public health and medical emergency planners (especially Public Health Emergency Preparedness and Hospital Preparedness Program awardees) to assess and quantify risk, identify and map at-risk populations, and to determine response objectives for hazard-specific public health emergency plans at all jurisdictional levels in the United States.

To assist in developing this tool, key informant interviews/focus groups will be conducted with public health and emergency management professionals from across the United States. And to understand the needs of at-risk populations, an anonymous survey will be conducted at Los Angeles County Department of Public Health clinics.

CDC is proposing an information collection to OMB to obtain subject matter expertise and feedback for pilot testing the RAMP tool and anonymous demographic information from LA County DPH clinic guests. CDC will use the data to develop the RAMP tool.

Public health and emergency manager respondents in pre-identified partner jurisdictions will participate in the interview and focus groups.

Los Angeles Department of Public Health Clinic guests will be offered an anonymous survey at the time of service registration.

All information will be collected on paper surveys and entered into a secured database. All paper surveys will be locked in the secure offices of the Los Angeles County Department of Public Health Emergency Preparedness and Response Program. All information will be disseminated and/or reported in aggregate form only.

It is anticipated that the focus group/interview and survey data collections will begin three months after OMB approval, beginning in the fall of 2017 and continuing for the duration of the project (through September 25, 2019). OMB approval is being requested for two years from the date of approval.

Cost Estimate

Public Health and Medical Emergency Planner Focus Group Questionnaire:

Information collection will involve approximately 100 surveys at approximately $20,000 (costs for convening workshops to engage survey respondents). There is no annual reporting or record-keeping burden. It is anticipated that participation in focus group questionnaires will occur as part (workshop, breakout group sessions) of pre-identified emergency preparedness/management meetings, conferences, and/or summits, in which participants will already be in attendance or participating in. As such, it is anticipated that participation in the focus group questionnaires will not result in any additional costs to, or burden on the vast majority of participants. For those few participants who may see an increased cost or burden on them through participation in focus group questionnaires, the proposed costs of participation are estimated at: $35.46 for one hour participation in a focus group questionnaire. Mean Hourly Wage of Emergency Management Directors (occupational code 11-9161): $35.46. (Source: U.S. Department of Labor, Bureau of Labor Statistics, Occupational Employment and Wages, May 2015).

LA County Public Health Clinic Guests:

Information collection will involve approximately 1,500 surveys and will be administered by DPH Staff and volunteers and will not require any costs to administer. It is anticipated that those individuals participating in the Public Health Client Surveys will do so while waiting for clinic services in clinic waiting rooms, and as such will not require any additional cost or burden to their participation. For those few participants who may see an increased cost or burden on them through participation in Public Health Client Surveys, the proposed costs of participation are estimated at: $0.90 for completing one five minute survey. California State Minimum Wage: $10.50 per hour. (Source: State of California, Department of Industrial Relations, Schedule for California Minimum Wage rate 2017-2023).

The total estimated burden is 225 hours.

Estimated Annualized Burden Hours
Type of respondents | Form name | Number of respondents | Number of responses per respondent | Avgerage burden per response (in hours) | Total burden (in hours)
Public Health and Medical Emergency Planners | Focus Group Questionnaire | 100 | 1 | 60/60 | 100
LA County Public Health Clinic Guests | Survey | 1,500 | 1 | 5/60 | 125
Total |  |  |  |  | 225

Leroy A. Richardson,
Chief, Information Collection Review Office, Office of Scientific Integrity, Office of the Associate Director for Science, Office of the Director, Centers for Disease Control and Prevention.

[FR Doc. 2017-10090 Filed 5-17-17; 8:45 am]

BILLING CODE 4163-18-P